INTERNATIONAL TRADE COMMISSION

[Investigation Nos. 701-TA-512 and 731-TA-1248 (Final)]

Carbon and Certain Alloy Steel Wire Rod From China; Determinations

On the basis of the record ¹ developed in the subject investigations, the United States International Trade Commission (“Commission”) determines, pursuant to sections 705(b) and 735(b) of the Tariff Act of 1930 (19 U.S.C. 1671d(b)) and (19 U.S.C. 1673d(b)) (“the Act”), that an industry in the United States is materially injured by reason of imports of carbon and certain alloy steel wire rod from China, provided for in subheadings 7213.91, 7213.99, 7227.20, and 7227.90 of the Harmonized Tariff Schedule of the United States, that have been found by the Department of Commerce (“Commerce”) to be to be subsidized by the government of China, and to be sold in the United States at less than fair value (“LTFV”).²

¹ The record is defined in sec. 207.2(f) of the Commission's Rules of Practice and Procedure (19 CFR 207.2(f)).

² Additionally, the Commission finds that: (1) Imports subject to Commerce's affirmative critical circumstances determination are not likely to undermine seriously the remedial effect of the countervailing duty order on carbon and certain alloy steel wire rod from China, and (2) imports subject to Commerce's affirmative critical circumstances determination are not likely to undermine seriously the remedial effect of the antidumping duty order on carbon and certain alloy steel wire rod from China.

Background

The Commission instituted these investigations effective January 31, 2014, following receipt of a petition filed with the Commission and Commerce by ArcelorMittal USA LLC, Chicago, Illinois; Charter Steel, Saukville, Wisconsin; Evraz Pueblo, Pueblo, Colorado; Gerdau Ameristeel US Inc., Tampa, Florida; Keystone Consolidated Industries, Inc., Dallas, Texas; and Nucor Corporation, Charlotte, North Carolina. The final phase of the investigations was scheduled by the Commission following notification of a preliminary determination by Commerce that imports of carbon and certain alloy steel wire rod from China were subsidized within the meaning of section 703(b) of the Act (19 U.S.C. 1671b(b)) and dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on September 23, 2014 (79 FR 56827). The hearing was held in Washington, DC, on November 12, 2014, and all persons who requested the opportunity were permitted to appear in person or by counsel.

The Commission completed and filed its determination in these investigations on January 2, 2015. The views of the Commission are contained in USITC Publication 4509 (January 2015), entitled Carbon and Certain Alloy Steel Wire Rod from China: Investigation Nos. 701-TA-512 and 731-TA-1248 (Final).

Issued: January 2, 2015.
By order of the Commission.
Jennifer Rohrbach,
Supervisory Attorney.

[FR Doc. 2015-00039 Filed 1-7-15; 8:45 am]

BILLING CODE 7020-02-P